DEPARTMENT OF LABOR

Employment and Training Administration

[TA-W-85,562]

Unimin Corporation, Gleason, Tennessee; Notice of Affirmative Determination Regarding Application for Reconsideration

By application dated December 3, 2014, a worker requested administrative reconsideration of the negative determination regarding workers' eligibility to apply for worker adjustment assistance applicable to workers and former workers of Unimin Corporation, Gleason, Tennessee (subject firm). The determination was issued on November 7, 2014. The Department's Notice of Determination was published in the Federal Register on November 21, 2014 (79 FR 69535).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The initial investigation resulted in a negative determination based on the findings that the subject firm did not increase imports or shift production abroad.

The request for reconsideration asserts that increased imports of articles directly competitive with the “slurry” articles produced at the subject firm contributed to worker separations and, consequently, that the Department's initial investigation was too limited in scope.

The Department of Labor has carefully reviewed the request for reconsideration and the existing record, and has determined that the Department will conduct further investigation to determine if the workers meet the eligibility requirements of the Trade Act of 1974.

Conclusion

After careful review of the application, I conclude that the claim is of sufficient weight to justify reconsideration of the U.S. Department of Labor's prior decision. The application is, therefore, granted.

Signed at Washington, DC, this 29th day of May, 2015.
Del Min Amy Chen,
Certifying Officer, Office of Trade Adjustment Assistance.

[FR Doc. 2015-15968 Filed 6-29-15; 8:45 am]

BILLING CODE 4510-FN-P